DEPARTMENT OF ENERGY

National Nuclear Security Administration; Notice of Intent To Prepare an Environmental Impact Statement for the Proposed Chemistry and Metallurgy Research Building Replacement Project at Los Alamos National Laboratory, Los Alamos, NM

AGENCY: Department of Energy, National Nuclear Security Administration.

ACTION: Notice of intent.

SUMMARY: Pursuant to the National Environmental Policy Act ((NEPA) of 1969, as amended (42 U.S.C. 4321 et seq.), and the DOE Regulations Implementing NEPA (10 CFR part 1021), the National Nuclear Security Administration (NNSA), an agency within the U.S. Department of Energy (DOE), announces its intent to prepare an environmental impact statement (EIS) to assess the consolidation and relocation of mission critical chemistry and metallurgy research (CMR) capabilities at Los Alamos National Laboratory (LANL) from degraded facilities such that these capabilities would be available on a long-term basis to successfully accomplish LANL mission support activities or programs. DOE invites individuals, organizations, and agencies to present oral or written comments concerning the scope of the EIS, including the environmental issues and alternatives that the EIS should address.

DATES: The public scoping period starts with the publication of this Notice in the Federal Register and will continue until August 31, 2002. DOE will consider all comments received or postmarked by that date in defining the scope of this EIS. Comments received or postmarked after that date will be considered to the extent practicable. Public scoping meetings will provide the public with an opportunity to present comments, ask questions, and discuss concerns regarding the EIS with NNSA officials. The locations, dates and times for the public scoping meetings are as follows:

August 13, 2002, from 4-8 p.m., Cities of Gold Hotel, Pojoaque, New Mexico

August 15, 2002, from 4-8 p.m., Fuller Lodge, Los Alamos, New Mexico

The DOE will publish additional notices on the dates, times, and locations of the scoping meetings in local newspapers in advance of the scheduled meetings. Any necessary changes will be announced in the local media. Any agency, state, pueblo, tribe, or units of local government that desire to be designated a cooperating agency should contact Ms. Elizabeth Withers at the address listed below by August 16, 2002.

ADDRESSES: Written comments or suggestions concerning the scope of the CMRR EIS or requests for more information on the EIS and public scoping process should be directed to: Ms. Elizabeth Withers, EIS Document Manager, U.S. Department of Energy, National Nuclear Security Administration, Office of Los Alamos Site Operations, 528 35th Street, Los Alamos, New Mexico, 87544; facsimile at (505) 667-9998; or E-mail at ewithers@doeal.gov. Ms. Withers may also be reached by telephone at (505) 667-8690.

In addition to providing comments at the public scoping meetings, all interested parties are invited to record their comments, ask questions concerning the EIS, or request to be placed on the EIS mailing or document distribution list by leaving a message on the EIS Hotline at (toll free) 1-877-491-4957. The Hotline will have instructions on how to record comments and requests.

FOR FURTHER INFORMATION CONTACT: For general information on NNSA NEPA process, please contact: Mr. James Mangeno (NA-3.6), NNSA NEPA Compliance Officer, U.S. Department of Energy, 1000 Independence Ave, SW., Washington, DC 20585, or telephone 202-586-8395. For general information about the DOE NEPA process, please contact: Ms. Carol Borgstrom, Director, Office of NEPA Policy and Compliance (EH-42), U.S. Department of Energy, 1000 Independence Avenue SW, Washington, DC 20585, (202) 586-4600, or leave a message at 1-800-472-2756.

SUPPLEMENTARY INFORMATION: Los Alamos National Laboratory (LANL) is located in north-central New Mexico, 60 miles north-northeast of Albuquerque, 25 miles northwest of Santa Fe, and 20 miles southwest of Española in Los Alamos and Santa Fe Counties. It is located between the Jemez Mountains to the west and the Sangre de Cristo Mountains and Rio Grande to the east. LANL occupies an area of about 27,800 acres or approximately 43 square miles and is operated for DOE NNSA by a contractor, the University of California. It is a multidisciplinary, multipurpose institution engaged in theoretical and experimental research and development. LANL has been assigned science, research and development, and production NNSA mission support activities that are critical to the accomplishment of the NNSA national security objectives (as reflected in the Stockpile Stewardship and Management Programmatic EIS (DOE/EIS-0236). Specific LANL assignments for the foreseeable future include production of War-Reserve (WR) products, assessment and certification of the stockpile, surveillance of the WR components and weapon systems, ensuring safe and secure storage of strategic materials, and management of excess plutonium inventories. In addition, LANL also supports actinide (actinides are any of a series of elements with atomic numbers ranging from actinium-89 through lawrencium-103) science missions ranging from Plutonium-238 heat-source program for the National Aeronautics and Space Administration (NASA) to arms control and technology development. LANL's main role in NNSA mission objectives includes a wide range of scientific and technological capabilities that support nuclear materials handling, processing and fabrication; stockpile management; materials and manufacturing technologies; nonproliferation programs; and waste management activities.

The capabilities needed to execute the NNSA mission activities require facilities at LANL that can be used to handle actinide and other radioactive materials in a safe and secure manner. Of primary importance are the facilities located within the CMR Building and the Plutonium Facility (located at Technical Areas (TAs) 3 and 55, respectively), which are used for processing, characterizing and storage of special nuclear material. Most of the LANL mission support functions previously listed require analytical chemistry, material characterization, and actinide research and development support capabilities and capacities that currently exist at facilities within the CMR Building and are not available elsewhere. Other unique capabilities are located at the Plutonium Facility. Work is sometimes moved between the CMR Building and the Plutonium Facility to make use of the full suite of capabilities that these two facilities provide.

Mission critical CMR capabilities at LANL support NNSA's stockpile stewardship and management strategic objectives; these capabilities are necessary to support the current and future directed stockpile work and campaign activities conducted at LANL. The CMR Building is over 50 years old and many of its systems and structural components are in need of being upgraded, refurbished, or replaced. Recent studies conducted in the late 1990s have identified a seismic fault trace located beneath the CMR Building, which greatly enhances the level of structural upgrades needed at the CMR Building to meet current structural seismic code requirements for a Hazard Category 2 nuclear facility. Performing the needed repairs, upgrades and systems retrofitting for long-term use of the aging CMR Building to allow it to adequately house the mission critical CMR capabilities would be extremely difficult and cost prohibitive. Over the long-term, NNSA cannot continue to operate the assigned LANL mission critical CMR support capabilities in the existing CMR Building at an acceptable level of risk to public and worker health and safety without operational restrictions. These operational restrictions would preclude the full implementation of the level of operation DOE decided upon through its Record of Decision for the 1999 LANL Site-wide Environmental Impact Statement for the Continued Operation of Los Alamos National Laboratory (DOE/EIS-0238). CMR capabilities are necessary to support the current and directed stockpile work and campaign activities at LANL. The currently estimated end-of-life for the existing CMR Building is about 2010. The CMR Building is near the end of its useful life and action is required by NNSA to assess alternatives for continuing these activities for the next 50 years.

Currently, NNSA expects that the CMR Building Replacement Project EIS (CMRR EIS) will evaluate the environmental impacts associated with relocating the CMR capabilities at LANL to the new buildings sited at the following alternative locations: (1) Next to the Plutonium Facility at Technical Area 55 (TA-55) at LANL (the Proposed Action), or (2) a “greenfield” site(s) at or near TA-55. NNSA will evaluate performing minimal necessary structural and systems upgrades and repairs to portions of the existing CMR Building and continuing the use of these upgraded portions of the structure for office and light laboratory purposes, as well as evaluating the potential decontamination and demolition of the entire existing CMR Building as disposition options coupled with the alternatives for construction and operation of new nuclear laboratory facilities at the two previously identified locations. The EIS would also consider the performance of minimal necessary structural and systems upgrades and repairs to the existing CMR Building as a no-action alternative with continued maintenance of limited mission critical CMR capabilities at the CMR Building. It is possible that this list of reasonable alternatives may change during the scoping process.

The CMR Building contains about 550,000 square feet (about 51,100 square meters) of floor space on two floors divided between a main corridor and seven wings. It was constructed to 1949 Uniform Building Codes in the late 1940s and early 1950s. DOE has maintained and upgraded the building over time to provide for continued safe operations. In 1992, DOE initiated planning and implementation of CMR Building upgrades intended to address specific safety, reliability, consolidation and safeguards issues (these were the subject of DOE/EA-1101). These upgrades were intended to extend the useful life of the CMR Building an additional 20 to 30 years. However, in 1997 and 1998, a series of operational, safety and seismic issues surfaced regarding the long-term viability of the CMR Building. In the course of considering these issues, the DOE determined that the originally planned extensive upgrades to the building would be much more expensive and time-consumptive than had been identified. Furthermore, the planned upgrades would be marginally effective in providing the required operational risk reduction and program capabilities to support NNSA mission assignments at LANL. As a result, in January 1998, the DOE directed the down-scope of the CMR Building upgrade projects to only those upgrades needed to ensure safe and reliable operations through about the year 2010. CMR Building operations and capabilities are currently being restricted in scope due to safety and security constraints; it is not being operated to the full extent needed to meet the DOE NNSA operational requirements established in 1999 for the foreseeable future over the next 10 years. In addition, continued support of LANL's existing and evolving missions roles are anticipated to require additional capabilities such as the ability to handle large containment vessels in support of Dynamic Experiments.

In January 1999, the NNSA approved a strategy for managing operational risks at the CMR Building. The strategy included implementing operational restrictions to ensure safe operations. These restrictions are impacting the assigned mission support CMR activities conducted at the CMR Building. This management strategy also committed NNSA to developing long-term facility and site plans to relocate the CMR capabilities elsewhere at LANL by 2010, as necessary to maintain continuing LANL support of national security and other NNSA missions.

Purpose and Need: NNSA needs to provide the physical means for accommodating the continuation of the CMR Building's functional, mission-critical CMR capabilities beyond 2010 in a safe, secure, and environmentally sound manner at LANL. At the same time, NNSA should also take advantage of the opportunity to consolidate like activities for the purpose of operational efficiency, and it is prudent to provide extra space for future anticipated capabilities or activities requirements.

Proposed Action and Alternatives: The Proposed Action (Preferred Alternative) is to construct a new facility at TA-55 composed of two or three buildings to house the existing CMR Building capabilities. One of the new buildings would provide space for administrative offices and support activities; the other building(s) would provide secure laboratory spaces for research and analytical support activities. Construction of the laboratory building(s) at above ground level would be considered. Tunnels may be constructed to connect the buildings. At a minimum, the buildings would operate for the next 50 years. A parking lot or structure would also be constructed as part of the Proposed Action.

Reasonable alternatives to the proposed action have not been definitively identified, but could include construction of a new CMR facility at a nearby location to TA-55 within an undeveloped “greenfield” area. Another alternative could consider continuing use of portions of the existing CMR Building with the implementation of minimal necessary structural and systems upgrades and repairs for office and light laboratory purposes, together with the construction of new nuclear laboratory facilities at the two previously identified locations. If either of the two alternatives were chosen that would completely remove CMR activities from the existing CMR Building, options for the disposition of the existing CMR Building could include an option for continuing use of the existing CMR Building with the implementation of minimal necessary structural and systems upgrades and repairs for offices or other purposes appropriate to the condition of the structure, and an option for complete decontamination and demolition of the entire CMR Building with subsequent waste disposal. As required by the Council on Environmental Quality NEPA regulations, a No Action alternative will also be evaluated. The No Action alternative would be to continue the current use of the CMR Building for CMR operations with minimal structural and equipment component replacements and repairs so that it could continue to function, although the CMR capabilities would likely be restricted to minimal levels.

Potential Issues for Analysis: NNSA has tentatively identified the following issues for analysis in this EIS. Additional issues may be identified as a result of the scoping process.

1. Potential human health impacts (both to members of the public and to workers) related to the proposed new facility and anticipated LANL nearby activities during normal operations and reasonably foreseeable accident conditions.

2. Potential impacts to air, water, soil, visual resources and viewsheds associated with constructing new buildings, relocating and continuing CMR operations.

3. Potential impacts to plants and animals, and to their habitats, including Federally-listed threatened or endangered species and their critical habitats, wetlands and floodplains, associated with constructing new buildings, relocating and continuing CMR operations.

4. Potential impacts from geologic site conditions and land uses associated with constructing new buildings, relocating and continuing CMR operations.

5. Potential impacts from irretrievable and irreversible consumption of natural resources and energy associated with constructing new buildings, relocating and continuing CMR operations.

6. Potential impacts to cultural resources, including historical and prehistorical resources and traditional cultural properties, from constructing new buildings, relocating and continuing CMR operations.

7. Potential impacts to infrastructure, transportation issues, waste management, and utilities associated with constructing new buildings, relocating and continuing CMR operations.

8. Potential impacts to socioeconomic conditions from constructing new buildings, relocating and continuing CMR operations.

9. Potential environmental justice impacts to minority and low-income populations as a result of constructing new buildings, relocating and continuing CMR operations.

10. Potential cumulative impacts from the Proposed Action and other past, present, and reasonably foreseeable actions at LANL.

NNSA anticipates that certain classified information will be consulted in the preparation of this CMRR EIS and used by decision-makers to decide where and how to relocate the CMR capabilities from the existing CMR Building. This EIS may contain a classified appendix. To the extent allowable, the EIS will summarize and present this information in an unclassified manner.

Related NEPA Reviews: Following is a summary of recent NEPA documents that may be considered in the preparation of this EIS and from which this EIS may be tiered, and of future EISs that may be in preparation simultaneously with the CMRR EIS. The CMRR EIS will include relevant information from each of these documents.

• The Final Stockpile Stewardship and Management Programmatic Environmental Impact Statement (SSM PEIS) (DOE/EIS-0236). The SSM PEIS addressed the facilities and missions to support the stewardship and management of the U.S. nuclear stockpile. The Record of Decision (ROD) was issued in 1996 and identified stewardship and management mission support activities assigned to LANL, in particular, the reestablishment of DOE's plutonium pit production capability.

• The Final Los Alamos National Laboratory Site-Wide Environmental Impact Statement (SWEIS) (DOE/EIS-0238). The SWEIS analyzed four levels of operations alternatives for LANL to meet its existing and potential future program assignments: The No Action Alternative, the Expanded Operations Alternative, the Reduced Operations Alternative, and the Greener Alternative. The SWEIS also provided project specific analysis for two proposed projects: The Expansion of TA-54/Area G Low Level Waste Disposal Area; and Enhancement of Plutonium Pit Manufacturing. The SWEIS Record of Decision identified the Expanded Alternative with reduced pit manufacturing capabilities as the level of operations DOE would undertake at LANL over the next ten years.

• The Draft Environmental Impact Statement for the Proposed Relocation of Technical Area 18 Capabilities and Materials at Los Alamos National Laboratory (TA-18 EIS) (DOE/EIS-0319). The TA-18 EIS considers relocating the TA-18 criticality mission activities to another location at LANL; to the Nevada Test Site near Las Vegas, Nevada; to Sandia National Laboratory at Albuquerque, New Mexico; or to the Argonne National Laboratory—West near Idaho Falls, Idaho. If retained at LANL, the TA-18 activities could be housed in new buildings constructed next to the Plutonium Facility at TA-55; could remain in the current facilities without any upgrades; or could remain in upgraded facilities at TA-18.

• The NNSA is considering initiation of the preparation of an EIS on the proposed Modern Pit Facility. As the analysis for this new facility progresses it will be incorporated, if applicable, into the CMRR EIS to the extent practicable.

Public Scoping Process: The scoping process is an opportunity for the public to assist the NNSA in determining the alternatives and issues for analysis. The purpose of the scoping meetings is to receive oral and written comments from the public. The meetings will use a format to facilitate dialogue between NNSA and the public and will be an opportunity for individuals to provide written or oral statements. NNSA welcomes specific comments or suggestions on the content of these alternatives, or on other alternatives that could be considered. The above list of issues to be considered in the EIS analysis is tentative and is intended to facilitate public comment on the scope of this EIS. It is not intended to be all-inclusive, nor does it imply any predetermination of potential impacts. The CMRR EIS will describe the potential environmental impacts of the alternatives, using available data where possible and obtaining additional data where necessary. Copies of written comments and transcripts of oral comments will be available at the following locations: Los Alamos Outreach Center, 1350 Central Avenue, Suite 101, Los Alamos, New Mexico, 87544; and the Zimmerman Library, University of New Mexico, Albuquerque, New Mexico 87131.

Issued in Washington, DC, this 15th day of July, 2002.
Linton Brooks,
Acting Administrator, National Nuclear Security Administration.

[FR Doc. 02-18552 Filed 7-22-02; 8:45 am]

BILLING CODE 6450-01-P